FEDERAL COMMUNICATIONS COMMISSION

47 CFR Part 73

[DA 02-3090, MM Docket No. 01-208, RM-10205]

Digital Television Broadcast Service; Harrisburg, PA

AGENCY: Federal Communications Commission.

ACTION: Final rule.

SUMMARY: The Commission, at the request of Harrisburg Television, Inc, licensee of station WHTM-TV, substitutes DTV channel 10 for DTV channel 57 at Harrisburg. See 66 FR 47904, September 14, 2001. DTV channel 10 can be allotted to Harrisburg, Pennsylvania, in compliance with the principle community coverage requirements of section 73.625(a) at reference coordinates 40-18-57 N. and 76-57-02 W. with a power of 14, HAAT of 346 meters and with a DTV service population of 1793 thousand. Since the community of Harrisburg is located within 400 kilometers of the U.S.-Canadian border, concurrence from the Canadian government has been obtained for this allotment. With this action, this proceeding is terminated.

DATES: Effective December 30, 2002.

FOR FURTHER INFORMATION CONTACT: Pam Blumenthal, Media Bureau, (202) 418-1600.

SUPPLEMENTARY INFORMATION: This is a synopsis of the Commission's Report and Order, MM Docket No. 01-208, adopted November 7, 2002, and released November 15, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334, 336.

§ 73.622 [Amended]

2. Section 73.622(b), the Table of Digital Television Allotments under Pennsylvania, is amended by removing DTV channel 57 and adding DTV channel 10 at Harrisburg.

Federal Communications Commission.
Barbara A. Kreisman,
Chief, Video Division, Media Bureau.

[FR Doc. 02-29574 Filed 11-20-02; 8:45 am]

BILLING CODE 6712-01-P